DEPARTMENT OF STATE

[Public Notice: 9454]

Notice of a Public Meeting

The Department of State will conduct an open meeting at 10:30 a.m. on Tuesday, March 22, 2016, at the headquarters of the Radio Technical Commission for Maritime Service (RTCM) in Suite 605, 1611 N. Kent Street, Arlington, Virginia 22209. The primary purpose of the meeting is to prepare for the fortieth session of the International Maritime Organization's (IMO) Facilitation Committee to be held at the IMO Headquarters, United Kingdom, April 4-8, 2016.

The agenda items to be considered include:

—Adoption of the agenda; report on credentials

—Decisions of other IMO bodies

—Consideration and adoption of proposed amendments to the Convention

—Comprehensive review of the FAL Convention

—Application of single-window concept

—Requirements for access to, or electronic versions of, certificates and documents, including record books required to be carried on ships

—Measures to protect the safety of persons rescued at sea

—Consideration and analysis of reports and information on persons rescued at sea and stowaways

—Guidelines on the facilitation aspects of protecting the maritime transport network from cyberthreats

—Guidelines on minimum training and education for mooring personnel

—Review of the ICAO/IMO publication on International signs to provide guidance to persons at airports and marine terminals

—Technical cooperation activities related to facilitation of maritime traffic

—Relations with other organizations

—Application of the Committee's Guidelines

—Work programme

—Election of Chairman and Vice-Chairman for 2017

—Any other business

—Consideration of the report of the Committee on its fortieth session

Members of the public may attend this meeting up to the seating capacity of the room. To facilitate the building security process, and to request reasonable accommodation, those who plan to attend should contact the meeting coordinator, Mr. David Du Pont, by email at David.A.DuPont@uscg.mil, or by phone at (202) 372-1497, not later than March 15, 2016. Requests made after March 15, 2016 might not be able to be accommodated. In the case of inclement weather where the U.S. Federal Government is closed or delayed, a public meeting may be conducted virtually by calling (202) 475-4000 or 1-855-475-2447, Participant code: 887 809 72. The meeting coordinator will confirm whether the virtual public meeting will be utilized. Additional information regarding this and other public meetings related to the IMO may be found at: www.uscg.mil/imo.

Dated: February 12, 2016.
Jonathan Burby,
Coast Guard Liaison Officer, Office of Ocean and Polar Affairs, Department of State .

[FR Doc. 2016-04048 Filed 2-24-16; 8:45 am]

BILLING CODE 4710-09-P